DEPARTMENT OF ENERGY

Federal Energy Regulatory Commission

Notice of Application

November 7, 2005.

Gulf LNG Energy, LLC

[Docket No. CP06-12-000]

Gulf LNG Pipeline, LLC

[Docket No. CP06-13-000, CP06-14-000]

Take notice that on October 28, 2005, Gulf LNG Energy LLC (Gulf LNG), 1407 Jackson Ave, Suite 2, Pascagoula, MS 39567, filed in Docket No. CP06-12-000, an application pursuant to section 3 of the Natural Gas Act (NGA) for authorization to site, construct, and operate: (1) An LNG receiving facility, including docking facilities and associated piping appurtenances; and (2) an LNG storage and vaporization facility, including 2 LNG storage tanks, vaporization units and associated piping and control equipment (collectively, the Terminal), to import liquefied natural gas (LNG) into the United States. The proposed site is located in Jackson County, Mississippi.

Also, take notice that on October 28, 2005, Gulf LNG Pipeline, LLC (GLP), 1407 Jackson Ave, Suite 2, Pascagoula, MS 39567, filed in Docket Nos. CP06-13-000 and CP06-14-000, an application pursuant to section 7 of the NGA and Part 157 of the Commission's regulations, for authorization to construct, own and operate the Gulf LNG Pipeline, a 5.02 mile 36-inch diameter pipeline to connect the Terminal to three delivery points in Jackson County, Mississippi. In addition, GLP requests authorization under Part 157, Subpart F for a blanket certificate, and a waiver of the Commission's requirements with respect to the filing of a Pro Forma Tariff and proposed initial rates for service. The proposed facilities will have a peak deliverability of approximately 1.5 Bcf/day, all as more fully set forth in the application which is on file with the Commission and open to public inspection. This filing may be also viewed on the web at http://www.ferc.gov using the “eLibrary” link. Enter the docket number excluding the last three digits in the docket number field to access the document. For assistance, call (866) 208-3676 or TTY, (202) 502-8659.

Any questions regarding this application may be directed to John M. McCutchen, Gulf LNG Energy, LLC, 1407 Jackson Ave, Suite 2, Pascagoula, MS 39567, (228) 762-1762, or Erik Swenson, King & Spalding LLP, 1185 Avenue of the Americas, New York, NY 10036, (404) 572-3540.

On December 16, 2004, the Commission staff granted Gulf LNG's request to utilize the National Environmental Policy Act (NEPA) Pre-Filing Process and assigned Docket No. PF05-5-000 to staff activities involving Gulf LNG Energy. Now, as of the filing of Gulf LNG's and GLP's application on October 28, 2005, the NEPA Pre-Filing Process for this project has ended. From this time forward, Gulf LNG's and GLP's proceeding will be conducted in Docket Nos. CP06-12-000, CP06-13-000, and CP06-14-000, as noted in the caption of this Notice.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's web site under the “e-Filing” link. The Commission strongly encourages electronic filings.

Comment Date: November 28, 2005.

Magalie R. Salas,
Secretary.

[FR Doc. E5-6282 Filed 11-14-05; 8:45 am]

BILLING CODE 6717-01-P